FEDERAL COMMUNICATIONS COMMISSION

[Report No. 2582]

Petition for Reconsideration of Action in Rulemaking Proceeding

November 13, 2002.

Petition for Reconsideration has been filed in the Commission's rulemaking proceeding listed in this Public Notice and published pursuant to 47 CFR Section 1.429(e). The full text of this document is available for viewing and copying in Room CY-A257, 445 12th Street, SW., Washington, DC or may be purchased from the Commission's copy contractor, Qualex International (202) 863-2893. Oppositions to this petition must be filed by December 4, 2002 See section 1.4(b) (1) of the Commission's rules (47 CFR 1.4(b) (1)). Replies to an opposition must be filed within 10 days after the time for filing oppositions has expired.

Subject: Amendment of Section 73.202(b), Table of Allotments, FM Broadcast Stations (Ardmore, Brilliant, Brookwood, Gadsden, Hoover, Moundville, New Hope, Pleasant Grove, Russellville, Scottsboro, Troy, Tuscaloosa and Winfield, Alabama; Okolona and Vardaman, Mississippi; Linden, McMinnville, Pulaski and Walden, Tennessee) (MM Docket No. 01-62, RM-10053, RM-10109, RM-10110 RM-10111, RM-10112, RM-10113, RM-10114, and RM-1011

Number of Petitions Filed: 1.

Marlene H. Dortch,
Secretary.

[FR Doc. 02-29235 Filed 11-18-02; 8:45 am]

BILLING CODE 6712-01-M